PRIVACY AND CIVIL LIBERTIES OVERSIGHT BOARD

[Notice-PCLOB-2015-04; Docket No. 2015-0002, Sequence No. 4]

Closed Meeting on Executive Order 12333

AGENCY: Privacy and Civil Liberties Oversight Board.

ACTION: Notice of closed meeting.

SUMMARY: On April 8, 2015, during an open Sunshine Act meeting, the Board voted to select two counterterrorism-related activities governed by Executive Order 12333, and conduct focused in-depth examinations of those activities. During this closed meeting, the Board members will discuss proposed topics for this in-depth examination.

DATES: The closed meeting will be held on Wednesday, July 1, 2015 from 9:30 a.m. until 11:30 a.m. Eastern Standard Time (EST).

ADDRESSES: 2100 K Street NW., Washington, DC 20427.

FOR FURTHER INFORMATION CONTACT: Sharon Bradford Franklin, Executive Director, 202-331-1986.

SUPPLEMENTARY INFORMATION:

Status

Closed. Pursuant to 5 U.S.C. 552b(c)(1), it has been determined that this meeting will be closed to the public as the Board will be reviewing and discussing matters properly classified in accordance with Executive Order 13526.

Dated: June 23, 2015.
Eric Broxmeyer,
General Counsel, Privacy and Civil Liberties Oversight Board.

[FR Doc. 2015-15824 Filed 6-26-15; 8:45 am]

BILLING CODE 6820-b3-P